NATIONAL AERONAUTICS AND SPACE ADMINISTRATION

[Notice: 22-086]

Biological and Physical Sciences Advisory Committee; Meeting

AGENCY: National Aeronautics and Space Administration.

ACTION: Notice of meeting.

SUMMARY: In accordance with the Federal Advisory Committee Act, as amended, the National Aeronautics and Space Administration (NASA) announces a meeting of the Biological and Physical Sciences Advisory Committee. This Committee reports to the Director, Astrophysics Division, Science Mission Directorate, NASA Headquarters. The meeting will be held for the purpose of soliciting, from the scientific community and other persons, scientific and technical information relevant to program planning.

DATES: Tuesday, November 15, 2022, 11 a.m.-6 p.m., Wednesday, November 16, 2022, 11 a.m.-6 p.m., eastern time.

ADDRESSES: Meeting will be virtual only. See Webex and audio dial-in information below under SUPPLEMENTARY INFORMATION.

FOR FURTHER INFORMATION CONTACT: Mrs. KarShelia Kinard, Science Mission Directorate, NASA Headquarters, Washington, DC 20546, (202) 358-2355, or karshelia.kinard@nasa.gov.

SUPPLEMENTARY INFORMATION: As noted above, this meeting is virtual and will take place telephonically and via Webex. Any interested person must use a touch-tone phone to participate in this meeting. The Webex connectivity information for each day is provided below. For audio, when you join the Webex event, you may use your computer or provide your phone number to receive a call back, otherwise, call the U.S. toll conference number listed for each day.

On Tuesday, November 15, the event address for attendees is: https://nasaenterprise.webex.com/nasaenterprise/j.php?MTID=m01b35a731c1ea71b7838139acd4f3c09, the meeting number is 2762 360 2352, and meeting password is Bpac1115#

To join by telephone, the numbers are: 1-929-251-9612 or 1-415-527-5035. Access code: 2762 360 2352

On Wednesday, November 16, the event address for attendees is: https://nasaenterprise.webex.com/nasaenterprise/j.php?MTID=m9b9cd4f034cc4e6ef3b7ee7ef45b4aa2, the meeting number is 2763 691 6946, and meeting password is Bpac1116#

To join by telephone, the numbers are: 1-929-251-9612 or 1-415-527-5035. Access code: 2763 691 6946

The agenda for the meeting includes the following topics:

—Biological and Physical Sciences Division Overview

—Updates on Space Biology, Physical Sciences, and Fundamental Physics

The agenda will be posted on the Biological and Physical Sciences Advisory Committee web page: https://science.nasa.gov/researchers/nac/science-advisory-committees/bpac.

It is imperative that the meeting be held on this date to accommodate the scheduling priorities of the key participants.

Carol Hamilton,
Acting Advisory Committee Management Officer, National Aeronautics and Space Administration.

[FR Doc. 2022-22539 Filed 10-17-22; 8:45 am]

BILLING CODE 7510-13-P